DEPARTMENT OF ENERGY

Federal Energy Regulatory Commission

Combined Notice of Filings #1

Take notice that the Commission received the following electric rate filings:

Docket Numbers: ER10-1869-002; ER10-1727-002; ER10-1726-002; ER10-1671-002.

Applicants: GenOn Energy Management, LLC, GenOn Florida, LP, GenOn Wholesale Generation, LP, RRI Energy Services, LLC.

Description: Updated Market Power Analysis of GenOn Energy Management, LLC, et al.

Filed Date: 12/16/11.

Accession Number: 20111216-5224.

Comments Due: 5 p.m. ET 1/6/12.

Docket Numbers: ER12-620-000.

Applicants: Xcel Energy Services Inc.

Description: Xcel Energy Services Inc. submits Notice of Terminations.

Filed Date: 12/15/11.

Accession Number: 20111215-5269.

Comments Due: 5 p.m. ET 1/5/12.

Docket Numbers: ER12-630-000.

Applicants: San Diego Gas & Electric Company.

Description: SDGE Black Start Agreement to be effective 2/1/2012.

Filed Date: 12/16/11.

Accession Number: 20111216-5164.

Comments Due: 5 p.m. ET 1/6/12.

Docket Numbers: ER12-631-000.

Applicants: Windpower Partners 1993, LLC.

Description: Windpower Partners 1993, LLC Notice of Succession and Revisions to MBR Tariff to be effective 12/8/2011.

Filed Date: 12/16/11.

Accession Number: 20111216-5185.

Comments Due: 5 p.m. ET 1/6/12.

Docket Numbers: ER12-632-000.

Applicants: Duquesne Conemaugh, LLC.

Description: Certificate of Concurrence re Conemaugh Project to be effective 1/1/2012.

Filed Date: 12/16/11.

Accession Number: 20111216-5186.

Comments Due: 5 p.m. ET 1/6/12.

Docket Numbers: ER12-633-000.

Applicants: Duquesne Keystone, LLC.

Description: Certificate of Concurrence re Keystone Project to be effective 1/1/2012.

Filed Date: 12/16/11.

Accession Number: 20111216-5189.

Comments Due: 5 p.m. ET 1/6/12.

Take notice that the Commission received the following electric securities filings:

Docket Numbers: ES12-12-000.

Applicants: Prairie Wind Transmission, LLC.

Description: Application of Prairie Wind Transmission, LLC for authorization under Section 204 of the Federal Power Act to borrow up to $175.

Filed Date: 12/15/11.

Accession Number: 20111215-5282.

Comments Due: 5 p.m. ET 1/5/12.

Docket Numbers: ES12-14-000.

Applicants: Southern Power Company.

Description: Southern Power Company's application requesting authorization to issue and sell common stock, preference stock and secured and unsecured long-term debt securities.

Filed Date: 12/16/11.

Accession Number: 20111216-5215.

Comments Due: 5 p.m. ET 1/6/12.

Docket Numbers: ES12-15-000.

Applicants: KCP&L Greater Missouri Operations Company.

Description: Application for Authorization of Issuance of Short-Term Debt Securities Under Section 204 of the Federal Power Act.

Filed Date: 12/16/11.

Accession Number: 20111216-5219.

Comments Due: 5 p.m. ET 1/6/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2011.
Nathaniel J. Davis, Sr.,
Deputy Secretary.

[FR Doc. 2011-33517 Filed 12-29-11; 8:45 am]

BILLING CODE 6717-01-P